DEPARTMENT OF JUSTICE

[AAG/A Order No. 291-2002]

Privacy Act of 1974; System of Records

Pursuant to the provisions of the Privacy Act of 1974 (5 U.S.C. 552a), the Immigration and Naturalization Service (INS), Department of Justice, proposes to modify the system of records—INS Appendix: List of Principal Offices of the INS, JUSTICE/INS-999, last published, April 13, 1999 (64 FR 18052). This system notice is being modified because most of the INS offices are listed on the INS Web site. The Web site address is http://www.INS.gov. Those field office addresses not on the INS Web site appear in JUSTICE/INS-999. Requesters seeking records from the following systems of records may review this system notice and the Web site to obtain those addresses for each system location cited in the system notice.

1. INS Index System, JUSTICE/INS-001, 10/5/93 (58 FR 51847)

2. INS Alien File and Central Index System, JUSTICE/INS-001A, 9/7/01 (66 FR 46813)

3. INS Office of Internal Audit Investigations Index and Records, JUSTICE/INS-002, 1/3/02 (67 FR 347)

4. The Asset Management Information System (AMIS), JUSTICE/INS-004, 4/27/98 (63 FR 20651)

5. INS Image Storage and Retrieval System (ISRS), JUSTICE/INS-005, 01/22/01 (66 FR 6672)

6. INS Orphan Petitioner Index and Files, JUSTICE/INS-007, 07/27/01 (66 FR 39199)

7. INS Bond Management Information System, JUSTICE/INS-008, 12/18/98 (63 FR 70159)

8. INS Alien Status Verification Index, JUSTICE/INS-009, 9/7/01 (66 FR 46815)

9. INS Password Issuance and Control System, JUSTICE/INS-011, 3/2/89 (54 FR 8838)

10. INS Deportable Alien Control System, JUSTICE/INS-012, 01/22/01 (66 FR 6672)

11. INS Computer Linked Application Information Management System (CLAIMS), JUSTICE/INS-013, 11/4/97 (62 FR 59734)

12. Security Access Control System, JUSTICE/INS-014, 01/22/01 (66 FR 6670)

13. INS Port of Entry Office Management Support System, JUSTICE/INS-015, 6/14/90 (55 FR 24167)

14. Secondary Verification Automated Log, JUSTICE/INS-016, 10/10/95 (60 FR 52699)

15. INS Global Enrollment System (GES), JUSTICE/INS-017, 3/13/97 (62 FR 11919)

16. INS Employment Assistance Program (EAP) Treatment Referral Records, JUSTICE/INS-019, 1/22/98 (63 FR 3349)

17. Designated Entity Information Management System (DEIMS), JUSTICE/INS-021, 7/22/97 (62 FR 39256)

18. The Immigration and Naturalization Service Attorney/Representative Complaint/Petition Files, JUSTICE/INS-022, 12/16/99 (64 FR 70288)

19. INS Law Enforcement Support Center Database, JUSTICE/INS-023, 05/14/97 (62 FR 26556)

20. FD-258 Fingerprint Tracking System, JUSTICE/INS-024, 07/31/00 (65 FR 46741)

21. Worksite Enforcement Activity Record and Index (LYNX), JUSTICE/INS-025, 9/24/01 (66 FR 48890)

22. Hiring Tracking Systems (HITS), JUSTICE/INS-026, 12/16/99 (64 FR 70291)

23. JobSwap/Job Exchange System (JOBX), JUSTICE/INS-030, 03/8/01 (66 FR 13966)

24. Redesigned Naturalization Application Casework System (RNACS), JUSTICE/INS-031, 4/29/02, (67 FR 20996)

25. National Automated Immigration Lookout System (NAILS), JUSTICE/INS-032, 4/4/01 (66 FR 17928)

26. I-551 Renewal Program Temporary Sticker Issuance I-90 Manifest System (SIIMS), JUSTICE/INS-033, 01/22/01 (66 FR 6673)

Therefore, the INS Appendix, JUSTICE/INS-999 is modified accordingly.

Dated: October 4, 2002.
Robert F. Diegelman,
Acting Assistant Attorney General for Administration.

JUSTICE/INS-999

SYSTEM NAME:

INS Appendix: List of principal offices of the Immigration and Naturalization Service.

Headquarters:

Immigration and Naturalization Service, 425 “I” Street NW., Washington, DC 20536.

Regional Offices:

Eastern Regional Office, 70 Kimball Avenue, South Burlington, VT 05403-6813.

Central Regional Office, 7701 North Stemmons Freeway, Dallas, TX 75247-9998.

Western Regional Office, PO Box 30080, Laguna Niguel, CA 92607-0080.

Administrative Centers:

Eastern Administrative Center, 70 Kimball Avenue, South Burlington, VT 05403-6813.

Southern Administrative Center, 1460 Prudential Drive, Dallas, TX 75235.

Northern Administrative Center, Bishop Henry Whipple Federal Building, Room 480, One Federal Drive, Fort Snelling, MN 55111-4007.

Western Administrative Center, 24000 Avila Road, Laguna Niguel, CA 92677-8080.

Border Patrol Academy:

DOJ/INS (FLETC) Artesia, 1300 West Richey Avenue, Artesia, NM 88210.

Officer Development and Training Facility, Building 64 FLETC, Glynco, GA 31524.

[FR Doc. 02-26262 Filed 10-16-02; 8:45 am]

BILLING CODE 4410-10-P